DEPARTMENT OF TRANSPORTATION

Federal Aviation Administration

14 CFR Part 71

[Docket No. FAA-2021-1093; Airspace Docket No. 21-ASO-8]

RIN 2120-AA66

Amendment and Removal of VOR Federal Airways; Southeastern United States

AGENCY: Federal Aviation Administration (FAA), DOT.

ACTION: Final rule.

SUMMARY: In the proposed rule for this action, the FAA proposed to amend 11 VHF Omnidirectional Radar (VOR) Federal airways and remove 6 airways in support of the VOR Minimum Operational Network (MON) project in the southeastern United States. However, due to need for additional coordination with the Department of Defense (DoD), modifications of 9 airways will be made at a later date. Eight airways remain in this rule with some changes from the proposed route structure.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

History

The FAA published a notice of proposed rulemaking for Docket No. FAA-2021-1093 in the Federal Register (86 FR 72897; December 23, 2021), to modify 11 VOR Federal airways and remove 6 airways in the southeastern United States. Interested parties were invited to participate in this rulemaking effort by submitting written comments on the proposal. Four persons submitted comments.

Domestic VOR Federal airways are published in paragraph 6010(a) of FAA Order JO 7400.11F, dated August 10, 2021 and effective September 15, 2021, which is incorporated by reference in 14 CFR 71.1. The VOR Federal airways listed in this document will be subsequently published in, or removed from FAA Order JO 7400.11.

Discussion of Comments

All commenters opposed the removal of VOR Federal airways unless they are replaced by Area Navigation (RNAV) T routes, or there are suitable existing routes to be used as alternatives. The commenters wrote that the lack of replacement routes would hurt efficiency, and limit pilots' ability to flight plan for lower altitudes, especially when necessary to avoid inflight icing conditions. They stated that T routes and VOR airways provide minimum en route altitudes (MEA) that are depicted on aeronautical charts. Pilots can rely on these routes for safe navigation. However, a lack of suitable charted routes would require more reliance on random route navigation, which would require pilots to plan a flight using the Off Route Obstacle Clearance Altitude (OROCA), which may be much higher than a published MEA.

Additionally, the DoD has not yet provided comments on the route structure changes proposed in the NPRM, and requested the FAA not remove any route structure pending DoD review.

The Federal Aviation Administration recognizes the challenges associated with the modification or removal of airways in support of the VOR MON project, and the transition of the NAS to performance-based navigation.

As a result, pending further evaluation and DoD feedback, the FAA has not included the following airways in this final rule: V-5, V-20, V-51, V-70, V-155, V-179, V-243, V-267 and V-578. Modification of these airways will be made in subsequent actions at a later date. They will remain as currently shown on aeronautical charts pending later action.

Consequently, only the following airway modifications are implemented by this rule: V-35, V-56, V-66, V-97, V-154, V-323, and V-454. The route descriptions differ from those that were published in the NPRM and are described in the “Differences from the NPRM” section. In addition, T route substitutions for the affected routes are added in that section. The rule also removes airway V-362 as proposed in the NPRM.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the NPRM

Based on comments received and continuing coordination with the Department of Defense, this docket action is revised to facilitate only those structural changes necessary due to the scheduled decommissioning of the Atlanta, GA, (ATL); Crimson, AL, (LDK); and Macon, GA, (MCN) VORTACs.

The proposed changes to the following airways are not included in this final rule and will be slipped to a subsequent docket action at a later date: V-5, V-20, V-51, V-70, V-155, V-179, V-243, V-267, and V-578. These airways will remain in place as currently depicted on IFR En Route Charts.

Airway actions for V-35, V-56, V-66, V-97, V-154, V-323, and V-454 are included in this final rule, but with changes to the descriptions that were published in the NPRM, as noted below. In addition, changes to V-362 are as published in the NPRM.

The Rule

This action amends 14 CFR part 71 by modifying the following VOR Federal airways: V-35, V-56, V-66, V-97, V-154, V-323, V-362, and V-454 as described below.

V-35: V-35 currently consists of two parts: From Dolphin, FL to Morgantown, WV; and From Phillipsburg, PA, to Syracuse, NY. This action removes the segments between Pecan, GA and the intersection of the Dublin, GA 309° and the Athens, GA 195° radials (the SINCA, GA, FIX on aeronautical charts). The segments between the SINCA Fix and Glade Spring, VA, are retained, but the SINCA FIX is redefined as the intersection of the Dublin, GA, and Athens, GA radials due to the decommissioning of the Macon, GA, VORTAC. As amended, V-35 consists of three parts: From Dolphin, FL, to Pecan, GA; From the intersection of the above Dublin, GA and Athens, GA radials (SINCA FIX); to Morgantown, WV, and From Philipsburg, PA to Syracuse, NY. A new T route (T-423) will overlay V-35 from Sugarloaf Mountain, NC, to Charleston, WV. In addition, the words “The airspace below 2,000 feet MSL outside the United States is excluded,” and “The portion outside the United States has no upper limit,” are removed from the route description. A review of aeronautical charts shows that V-35 does not extend outside the U.S. territorial limit, therefore these exclusions are not necessary.

V-56: V-56 currently extends from Montgomery, AL, to New Bern, NC. This action removes the segments from Montgomery, AL, to Colliers, SC. The routing from Colliers, SC to New Bern, NC is retained. A new T route (T-404) will overlay V-56 from Macon, GA, to Columbia, SC. As amended, V-56 extends from Colliers, SC, to New Bern, NC.

V-66: V-66 currently consists of two parts: From Mission, Bay, CA, to Millsap, TX; and From Crimson, AL, to Franklin, VA. The segments from Crimson, AL, to Brookwood, AL; and from LaGrange, GA to Sandhills, NC are removed. The segment from Brookwood, AL, to LaGrange, GA, is retained. An extension of T route T-258 will overlay V-66 from Crimson, AL, to Sandhills, NC. As amended, V-66 consists of three parts: From Mission Bay, CA, to Millsap, TX (as currently charted); From Brookwood, AL, to LaGrange, GA; and From Sandhills, NC, to Franklin, VA.

V-97: V-97 currently consists of two parts: From Dolphin, FL, to the intersection of the Chicago Heights, IL, 358° and the Dupage, IL, 101° radials; and From Nodine, MN, to Gopher, MN. This action removes the route segments between the intersection of the Pecan, GA, 357° and the Vienna, GA, 300° radials (the charted PRATZ FIX) and the intersection of the Rome, GA, 060° and the Volunteer, TN 197° radials (the charted NELLO FIX). T route T-319 currently exists through the Atlanta Class B airspace area and serves as an overlay for a portion of V-97 that is being removed across Atlanta, GA. As amended, V-97 consists of three parts: From Dolphin, FL, to the intersection of the Pecan, GA, 357° and the Vienna, GA, 300° radials; From the intersection of the Rome, GA 060° and the Volunteer, TN, 197° radials to the intersection of the Chicago Heights 358° and DuPage, IL 101° radials; and From Nodine, MN, to Gopher, MN. The airspace below 2,000 feet MSL outside the United States is excluded.

V-154: V-154 currently extends from Rome, GA, to Savannah, GA. The NPRM proposed to remove the entire route. The FAA has decided to retain V-154 with the following changes. Due to the scheduled decommissioning of the Macon, GA, VORTAC, the point currently defined by the intersection of the Rome, GA 166° and the Macon, GA, 301° radials (charted as the TIROE FIX), is redefined using the intersection of the Rome 166° and the LaGrange, GA, 048° radials. T route T-408 will overlay V-154 from Macon, GA, to Savannah, GA. This rule amends V-154 to consist of two parts: From Rome, GA to the intersection of the Rome 166° and the LaGrange, GA, 048° radials; and From Dublin, GA, to Savannah, GA.

V-323: V-323 currently extends from Montgomery, AL, to the intersection of the Dublin, GA, 309° and the Athens, GA, 221° radials. The NPRM proposed to remove the entire route. The FAA has decided to retain V-323 with the following changes. The route segments from Macon, GA, to the intersection of the Dublin, GA, 309° and the Athens, GA 221° radials (the charted HUSKY, GA, FIX) is removed from the route. T route T-408 will overlay V-323 from Eufaula, AL, to Columbia, SC. As amended, V-323 extends from Montgomery, AL; via Eufaula, AL; to the intersection of the Eufaula 059° and the Pecan, GA 357° radials (the charted WILMS, GA, FIX).

V-362: V-362 currently extends from Brunswick, GA, to Macon, GA. As proposed in the NPRM, this action removes the entire route. No T route replacement is planned due to low utilization of V-362.

V-454: V-454 currently consists of two parts: From Brookley, AL, to the intersection of the Greenwood, SC, 046° and the Charlotte, NC 227° radials; and From the intersection of the Charlotte, NC, 034° and the Liberty, NC, 253° radials to Hopewell, VA. This action removes the segments from the intersection of the Monroeville, AL, 073° and the Eufaula, AL, 258° radials, to the intersection of the Greenwood, SC, 046° and the Charlotte, NC, 227° radials from the route. In the NPRM, the FAA proposed to change the starting point for the second part of the route from the intersection of the Charlotte 034° and the Liberty 253° radials to Liberty, NC. Subsequently, the FAA decided to retain the segment between the intersection of the above Charlotte and Liberty radials and Liberty, NC. Therefore, as amended, V-454 extends from Brookley, AL, to Monroeville, AL; and From the intersection of the Charlotte, NC, 034° and the Liberty, NC, 253° radials to Hopewell, VA. No T route replacement is planned due to the redundant VOR Federal airway route structure in the area.

The full route descriptions are listed in the “The Amendment” section, below.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-35, V-56, V-66, V-97, V-154, V-323, and V-454, and removing airway V-362, in the eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F Airspace Designations and Reporting Points, dated August 10, 2021, and effective September 15, 2021, is amended as follows:

Paragraph 6010(a) Domestic VOR Federal Airways.

* * * * *

V-35 [Amended]

From Dolphin, FL; INT Dolphin 266° and Cypress, FL, 110° radials; INT Cypress 110° and Lee County, FL, 138° radials; Lee County; INT Lee County 326° and St. Petersburg, FL, 152° radials; St. Petersburg; INT St. Petersburg 350° and Cross City, FL, 168° radials; Cross City; Greenville, FL; to Pecan, GA. From INT Dublin, GA 309° and Athens, GA, 195° radials; Athens; Electric City, SC; Sugarloaf Mountain, NC; Holston Mountain, TN; Glade Spring, VA; Charleston, WV; INT Charleston 051° and Elkins, WV, 264° radials; Clarksburg, WV; to Morgantown, WV. From Philipsburg, PA; Stonyfork, PA; Elmira, NY; to Syracuse, NY.

* * * * *

V-56 [Amended]

From Colliers, SC; Columbia, SC; Florence, SC; Fayetteville, NC, 41 miles 15 MSL, INT Fayetteville 098° and New Bern, NC 256° radials; to New Bern.

* * * * *

V-66 [Amended]

From Mission Bay, CA; Imperial, CA; 13 miles, 24 miles, 25 MSL; Bard, AZ; 12 miles, 35 MSL; INT Bard 089° and Gila Bend, AZ, 261° radials; 46 miles, 35 MSL; Gila Bend; Tucson, AZ, 7 miles wide (3 miles south and 4 miles north of centerline); Douglas, AZ; INT Douglas 064° and Columbus, NM, 277° radials; Columbus; El Paso, TX; 6 miles wide; INT El Paso 109° and Hudspeth, TX, 287° radials; 6 miles wide; Hudspeth; Pecos, TX; Midland, TX; INT Midland 083° and Abilene, TX, 252° radials; Abilene; to Millsap, TX. From Brookwood, AL; to LaGrange, GA. From Sandhills, NC; Raleigh-Durham, NC; to Franklin, VA.

* * * * *

V-97 [Amended]

From Dolphin, FL; La Belle, FL; St. Petersburg, FL; Seminole, FL; Pecan, GA; to INT Pecan 357° and Vienna, GA 300° radials. From INT Rome, GA 060° and Volunteer, TN, 197° radials; Volunteer; London, KY; Lexington, KY; Cincinnati, KY; Shelbyville, IN; INT Shelbyville 313° and Boiler, IN, 136° radials; Boiler; Chicago Heights, IL; to INT Chicago Heights 358° and DuPage, IL, 101° radials. From Nodine, MN; to Gopher, MN. The airspace below 2,000 feet MSL outside the United States is excluded.

* * * * *

V-154 [Amended]

From Rome, GA; INT Rome 166° and LaGrange, GA, 048° radials. From Dublin, GA; INT Dublin 105° and Savannah, GA, 289° radials; to Savannah.

* * * * *

V-323 [Amended]

From Montgomery, AL, via Eufaula, AL; to INT Eufaula 059° and Pecan, GA 357° radials.

* * * * *

V-362 [Removed]

* * * * *

V-454 [Amended]

From Brookley, AL; to Monroeville, AL. From INT Charlotte 034° and Liberty, NC, 253° radials; Liberty, NC; Lawrenceville, VA; to Hopewell, VA.

* * * * *

Issued in Washington, DC, on May 5, 2022.
Scott M. Rosenbloom,
Manager, Airspace Rules and Regulations.

[FR Doc. 2022-10031 Filed 5-16-22; 8:45 am]

BILLING CODE 4910-13-P